DEPARTMENT OF HOMELAND SECURITY

Coast Guard

33 CFR Part 117

[Docket No. USCG-2017-1074]

Drawbridge Operation Regulation; San Leandro Bay, Between Alameda and Bay Farm Island, CA

AGENCY: Coast Guard, DHS.

ACTION: Notice of deviation from drawbridge regulation.

SUMMARY: The Coast Guard has modified a temporary deviation from the operating schedule that governs the California Department of Transportation Highway and Bicycle drawbridges across San Leandro Bay, mile 0.0 and mile 0.1, between Alameda and Bay Farm Island, CA. The modified deviation extends the period the bridges may remain in the closed-to-navigation position and is necessary to allow the bridge owner to complete major rehabilitation and maintenance.

DATES: This modified deviation is effective from 6 p.m. on May 27, 2018 through 9 p.m. on June 7, 2018.

ADDRESSES: The docket for this deviation, USCG-2017-1074, is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: On December 20, 2017, the Coast Guard published a temporary deviation entitled “Drawbridge Operation Regulation; San Leandro Bay, between Alameda and Bay Farm Island, California” in the Federal Register (82 FR 60315). That temporary deviation, from 6 a.m. on January 2, 2018 to 6 p.m. on May 27, 2018, allows the drawspans to be secured in the closed-to-navigation position. The bridge owner, the California Department of Transportation, has requested a modification to the currently published deviation, extending it from 6 p.m. on May 27, 2018 to 9 p.m. on June 7, 2018 in order to complete major rehabilitation and maintenance of the drawbridges.

The highway drawbridge navigation span provides a vertical clearance of 20 feet above Mean High Water in the closed-to-navigation position. The bicycle drawbridge navigation span provides a vertical clearance of 26 feet above Mean High Water in the closed-to-navigation position. The draws operate as required by 33 CFR 117.193. Navigation on the waterway is commercial and recreational.

The drawspans will be secured in the closed-to-navigation position from 6 p.m. on May 27, 2018 through 9 p.m. on June 7, 2018, to allow the bridge to complete major rehabilitation and maintenance work. A temporary platform is installed beneath the drawspan of the highway drawbridge reducing he vertical clearance by 3 feet. This temporary deviation modification has been coordinated with waterway users. No objections to the proposed temporary deviation modification were raised.

Vessels able to pass through the bridge in the closed position may do so at any time. The bridge will not be able to open for emergencies and Oakland Inner Harbor Tidal Canal can be used as an alternate route for vessels unable to pass through the bridges in the closed position. The Coast Guard will also inform the users of the waterway through our Local and Broadcast Notices to Mariners of the change in operating schedule for the bridges so vessel operators can arrange their transits to minimize any impact caused by the temporary deviation.

In accordance with 33 CFR 117.35(e), the drawbridges must return to their regular operating schedule immediately at the end of the effective period of this temporary deviation. This deviation from the operating regulations is authorized under 33 CFR 117.35.

Dated: April 30, 2018.
Carl T. Hausner,
District Bridge Chief, Eleventh Coast Guard District.

[FR Doc. 2018-09432 Filed 5-3-18; 8:45 am]

BILLING CODE 9110-04-P